ENVIRONMENTAL PROTECTION AGENCY

40 CFR PART 51

[EPA-OAR-2005-0148; FRL-8010-5]

Advance Notice To Solicit Comments, Date and Information for Determining the Emissions Reductions Achieved in Ozone Nonattainment and Maintenance Areas From the Implementation of Rules Limiting the VOC Content of AIM Coatings; Second Extension of the Comment Period

AGENCY: Environmental Protection Agency (EPA).

ACTION: Advance notice of proposed rulemaking; second extension of the comment period.

SUMMARY: The EPA is extending the comment period a second time for an advanced notice of proposed rulemaking (ANPR) published on August 31, 2005 (70 FR 51694). The first extension of comment period published in the Federal Register on October 13, 2005 (70 FR 59680). In the August 31, 2005, document, EPA solicited comments, data and information for determining how to calculate the reduction in volatile organic compounds (VOC) emissions achieved in ozone nonattainment and maintenance areas from the implementation of rules which limit the VOC content of architectural coatings (commonly referred to as architectural industrial maintenance, or AIM, coatings). In addition to submitting comments, data and information, interested parties may also request to meet with EPA to present their recommended approaches and rationales. Pursuant to requests of the Ozone Transport Commission and the California Air Resources Board and to allow more time in general, EPA is extending the comment period an additional 60 days to February 16, 2006.

DATES: Comments must be received on or before February 16, 2006. Requests to meet with EPA should be made on or before January 30, 2006.

ADDRESSES: Submit comments, identified by Docket ID No. EPA-OAR-2005-0148, by one of the following methods:

• http://www.regulations.gov: Follow the on-line instructions for submitting comments.

• E-mail: A-and-R-Docket@epa.gov attention Docket No. EPA-OAR-2005-0148.

• Fax: 202-566-1741.

• Mail: Docket ID No. EPA-OAR-2005-0148, Environmental Protection Agency Docket Center, Mail Code: 6102T, 1200 Pennsylvania Avenue, NW., Washington, DC 10460. Please include duplicate copies, if possible.

• Hand Delivery: Docket ID No. EPA-OAR-2005-0148, Environmental Protection Agency Docket Center, EPA West Building, Room-102, 1301 Constitution Avenue, NW., Washington, DC. Please include duplicate copies, if possible. Such deliveries are only accepted during the Docket's normal hours of operation, and special arrangements should be made for deliveries of boxed information.

Instructions: Direct your comments to Docket ID No. EPA-OAR-2005-0148. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identify or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/docket.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Docket, EPA/DC, EPA West, Room B102, 1301 Constitution Ave., NW., Washington, DC. This docket facility is open from 8:30 a.m. to 4:30 p.m., Monday through Friday, excluding legal holidays. The docket telephone number is (202) 566-1742. The Public Reading Room is open from 8:30 a.m. to 4:30 p.m, Monday through Friday, excluding legal holidays. The telephone number for the public Reading room is (202) 566-1744.

FOR FURTHER INFORMATION CONTACT: Marcia L. Spink, Air Protection Division, Office of Air Programs, Mail Code: 3AP20; Environmental Protection Agency, Region 3, 1650 Arch St., Philadelphia, PA 19103-2029; telephone (215) 814-2104, spink.marcia epa.gov, or Makeba A. Morris, Air Protection Division, Air Quality Planning Branch, Mail Code; 3AP21; Environmental Protection Agency, Region 3, 1650 Arch St., Philadelphia, PA 19103-2029; telephone number: (215) 814-2187; fax number: (215) 814-2124; e-mail address: morris.makeba@epa.gov. To schedule a meeting with EPA, please contact David Sanders, Ozone Policy & Strategies Group, Air Quality Strategies & Standards Division, Mail Code C539-02, Office of Air Quality Planning & Standards, Research Triangle Park, NC 27711, telephone (919) 541-3356, or by e-mail at sanders.dave@epa.gov.

Dated: December 14, 2005.
William L. Wehrum,
Acting Assistant Administrator, Office of Air and Radiation.

[FR Doc. 05-24260 Filed 12-19-05; 8:45 am]

BILLING CODE 6560-50-M